DEPARTMENT OF THE TREASURY

Treasury Advisory Committee on Commercial Operations of the Customs Service

AGENCY: Departmental Offices, Treasury.

ACTION: Solicitation of applications for membership in the Treasury Advisory Committee on Commercial Operations of the Customs Service.

SUMMARY: This notice establishes criteria and procedures for the selection of members and provides public notice of the Department's intent to file a Charter for the committee's eighth two year term.

Title: The Treasury Advisory Committee on Commercial Operations of the U.S. Customs Service.

Purpose: The purpose of the Committee is to provide advice to the Secretary of the Treasury on all matters involving the commercial operations of the U.S. Customs Service and to submit an annual report to Congress describing its operations and setting forth any recommendations. The Committee provides a critical and unique forum for distinguished representatives of diverse industry sectors to present their views and advice directly to senior Treasury and Customs officials. This is done on a regular basis in an open and candid atmosphere.

SUPPLEMENTARY INFORMATION:

Background

In the Omnibus Budget Reconciliation Act of 1987 (Pub. L. 100-203), Congress directed the Secretary of the Treasury to create an Advisory Committee on Commercial Operations of the Customs Service. The Committee is to consist of 20 members drawn from industry sectors affected by Customs commercial operations with balanced political party affiliations. The Committee's first two-year charter was filed on October 17, 1988 and six additional charters have been filed for two-year terms. The current charter will expire on October 6, 2002. The Treasury Department plans to file a new charter by that date, renewing the Committee for an eighth two-year term.

Objective, Scope and Description of the Committee

The Committee's objective is to advise the Secretary of the Treasury on issues relating to the commercial operations of the Customs Service. It is expected that, during its eighth two-year term, the Committee will consider issues relating to enhanced border and cargo supply chain security, Customs modernization and automation, informed compliance and compliance assessment, account based processing, commercial enforcement and uniformity, international efforts to harmonize customs practices and procedures, strategic planning, northern border and southern border issues, and relationships with foreign Customs authorities. As directed by Congress, the Committee will be presided over by the Assistant Secretary of the Treasury for Enforcement. During the two-year charter, the Committee will meet approximately eight times (quarterly). Additional special meetings of the full Committee or a subcommittee thereof may be convened if necessary. The meetings will generally be held in the Treasury Department, Washington, DC. However, typically, one or two meetings per year are held outside of Washington at a Customs port.

The meetings are open to public observers, including the press, unless special procedures have been followed to close a meeting. During the last two-year term none of the Committee meetings have been closed.

The members shall be selected by the Secretary of the Treasury from representatives of the trade or transportation community that do business with Customs, the general public, or others who are directly affected by Customs commercial operations. In addition, members shall represent major regions of the country, and, by statute, not more than ten members may be affiliated with the same political party. No person who is required to register under the Foreign Agents Registration Act as an agent or representative of a foreign principal may serve on this advisory committee. Members shall not be paid compensation nor shall they be considered Federal Government employees for any purpose. No per diem, transportation, or other expenses are reimbursed for the cost of the public service of attending Committee meetings at any location.

Membership on the Committee is personal to the appointee. Under the Charter, a member may not send an alternate to represent him or her at a Committee meeting. However, since Committee meetings are open to the public, another person from a member's organization may attend and observe the proceedings in a nonparticipating capacity. Regular attendance is essential; the Charter provides that a member who is absent for two consecutive meetings or two meetings in a calendar year shall lose his or her seat on the Committee. Members who are serving on the Committee during its expiring two-year term are eligible to reapply for membership provided that they are not in their second consecutive term and that they have met attendance requirements. A new application letter and updated resume are required.

Application for Advisory Committee Appointment

Any interested person wishing to serve on the Treasury Advisory Committee on Commercial Operations of the U.S. Customs Service must provide the following:

• Statement of interest and reasons for application;

• Complete professional biography or resume;

• Political affiliation, in order to ensure balanced representation. (Mandatory. If no party registration or allegiance exists, indicate “independent” or “unaffiliated”).

In addition, applicants must state in their applications that they agree to submit to pre-appointment background and tax checks. (Mandatory). However, a national security clearance is not required for the position.

There is no prescribed format for the application. Applicants may send a letter describing their interest and qualifications and enclose a resume.

The application period for interested candidates will extend to June 17, 2002. Applications should be submitted in sufficient time to be received by the close of business on the closing date by Gordana S. Earp, Office of Regulatory, Tariff and Trade Enforcement, Office of the Under Secretary (Enforcement), Room 4004, Department of the Treasury, 1500 Pennsylvania Avenue, NW, Washington, DC 20220, ATT: COAC 2002.

Dated: April 22, 2002.
Timothy E. Skud,
Deputy Assistant Secretary, (Regulatory, Tariff, and Trade Enforcement).

[FR Doc. 02-10205 Filed 4-24-02; 8:45 am]

BILLING CODE 4810-25-M